DEPARTMENT OF TRANSPORTATION

Research and Special Programs Administration

49 CFR Parts 107, 171, 172, and 177

[Docket No. RSPA-02-12064 (HM-232)]

RIN 2137-AD66

Hazardous Materials: Security Requirements for Offerors and Transporters of Hazardous Materials; Correction and Extension of Comment Period

AGENCY: Research and Special Programs Administration (RSPA), DOT.

ACTION: Notice of proposed rulemaking (NPRM); correction and extension of comment period.

SUMMARY: On May 2, 2002, the Research and Special Programs Administration proposed new requirements to enhance the security of hazardous materials transported in commerce. In response to requests by members of the regulated community, the comment period for the proposed rule is extended until July 3, 2002. In addition, we are correcting a citation in the proposed regulatory text.

DATES: Submit comments by July 3, 2002. To the extent possible, we will consider late-filed comments as we develop a final rule.

ADDRESSES: Submit comments to the Dockets Management System, U.S. Department of Transportation, Room PL 401, 400 Seventh Street, SW, Washington, DC 20590-0001. Comments should identify Docket Number RSPA-02-12064 (HM-232) and be submitted in two copies. If you wish to receive confirmation of receipt of your written comments, include a self-addressed, stamped postcard. You may also submit comments by e-mail by accessing the Dockets Management System web site at “http://dms.dot.gov/” and following the instructions for submitting a document electronically.

The Dockets Management System is located on the Plaza level of the Nassif Building at the Department of Transportation at the above address. You can review public dockets there between the hours of 9 a.m. and 5 p.m., Monday through Friday, except Federal holidays. You can also review comments on-line at the DOT Dockets Management System web site at “http://dms.dot.gov/.”

FOR FURTHER INFORMATION CONTACT: Susan Gorsky, (202) 366-8553, Office of Hazardous Materials Standards, Research and Special Programs Administration.

SUPPLEMENTARY INFORMATION:

I. Background

On May 2, 2002, the Research and Special Programs Administration (RSPA, we) published a notice of proposed rulemaking (NPRM) proposing regulations to enhance the security of hazardous materials shipments (67 FR 22028). The NPRM proposed to revise requirements in the Hazardous Materials Regulations (HMR; 49 CFR Parts 171-180) applicable to registration certificates, shipping documentation, and training. We also proposed to establish a new requirement for certain hazardous materials shippers and carriers to have plans in place to assure the security of shipments during transportation. We provided for a 30-day comment period, until June 3, 2002.

Since publication of the NPRM, we received 9 requests from representatives of the regulated industry requesting an extension of the 30-day comment period provided in the NPRM. Commenters suggest that the issues addressed in the NPRM require “significant” and “rigorous” analysis and substantial industry outreach to accurately assess the impact of the proposals on the industry. Commenters request a 60-day extension of the comment period to thoroughly review the proposals and provide constructive input to the rulemaking process.

As we stated in the NPRM, the threat to this Nation's security posed by possible intentional misuse of hazardous materials transported in commerce is ongoing and significant. Hazardous materials shippers and carriers must take action to enhance hazardous materials transportation security. However, we agree that commenters need more time than initially provided to consider the proposals in the NPRM. Therefore, we are extending the comment period for the NPRM an additional 30 days, until July 3, 2002.

In addition, two commenters discovered an incorrect reference in the NPRM. On page 22034, under the proposed regulatory text language for § 172.704(a)(4)(ii), the reference “§ 173.14 of this subchapter” should read “§ 172.802”.

Accordingly, we are correcting the HM-232 NPRM as follows:

Correction

PART 172—[CORRECTED]

§ 172.704 [Corrected]

In proposed rule FR Doc. 02-10405, beginning on page 22028 in the issue of May 2, 2002, make the following correction to the proposed regulatory text:

On page 22034, in the third line of the second paragraph of column 3, in § 172.704(a)(4)(ii), correct “§ 173.14 of this subchapter” to read “§ 172.802”.

Issued in Washington, DC on May 20, 2002 under authority delegated in 49 CFR part 106.
Robert A. McGuire,
Associate Administrator for Hazardous Materials Safety Research and Special Programs Administration.

[FR Doc. 02-13003 Filed 5-22-02; 8:45 am]

BILLING CODE 4910-60-C